DEPARTMENT OF ENERGY

Western Area Power Administration

DEPARTMENT OF AGRICULTURE

Forest Service

Maintenance and Vegetation Management Along Existing Western Area Power Administration Transmission Line Rights of Way on National Forest System Lands, Colorado, Utah, and Nebraska (DOE/EIS-0442)

AGENCIES: Western Area Power Administration, DOE; Forest Service, USDA.

ACTION: Notice of Intent to Prepare an Environmental Impact Statement and to Conduct Scoping Meetings; Notice of Floodplain and Wetlands Involvement.

SUMMARY: Western Area Power Administration (Western) proposes to improve the way it manages vegetation along its rights-of-way (ROW) on National Forest System lands in the states of Colorado, Utah, and Nebraska. Implementing the proposal would include modifying existing United States Forest Service (Forest Service) authorizations or issuing new authorizations to accommodate Western's vegetation management proposal and maintenance of the electrical transmission facilities. Western and the FS will be joint lead agencies in the preparation of an environmental impact statement (EIS) on the proposal in accordance with the National Environmental Policy Act of 1969 (NEPA), U.S. Department of Energy (DOE) NEPA Implementing Procedures, and the Council on Environmental Quality (CEQ) regulations for implementing NEPA.

Western's need for agency action is to ensure that it can safely and reliably operate and maintain its existing electrical transmission facilities. Western must meet North American Electric Reliability Corporation's mandatory vegetation management and maintenance standards (FAC-003-1) in accordance with section 1211 of the Energy Policy Act of 2005 and industry standards. These industry standards are designed to ensure the safe and reliable operation of the transmission system.

Portions of the proposed Project may affect floodplains and wetlands, so this Notice of Intent (NOI) also serves as a notice of proposed floodplain or wetland action, in accordance with DOE floodplain and wetland environmental review requirements.

DATES: This NOI begins the public scoping period. The public scoping period will close May 26, 2010. Western and the Forest Service will consider all electronic and written scoping comments that are received or postmarked by midnight May 26, 2010.

ADDRESSES: Western and the Forest Service will host public scoping meetings on Thursday, April 22, 2010, at the Ramada Plaza Denver North, 10 East 120th Avenue, Denver, CO 80233; Friday, April 23, 2010, at the Museum of Western Colorado, Whitman Educational Center, 248 S. 4th (4th and Ute), Grand Junction, CO 81501; and Monday, April 26, 2010, at the Uintah Basin Applied Technology College, 450 N. 2000 W., Vernal, UT 84078. Scoping meetings will be from 3 p.m. to 7 p.m. The meetings will provide information to the public and gather comments from the public. The meetings will be informal, and attendees will be able to speak directly with Western and FS representatives about the proposal. Attendees may provide written comments at the public scoping meetings, or send them to James Hartman, Environmental Manager, Rocky Mountain Regional Office, Western Area Power Administration, P.O. Box 3700, Loveland, CO 80539-3003, e-mail: Western-FS-EIS@wapa.gov.

FOR FURTHER INFORMATION CONTACT: For information on the proposal and the environmental review process, contact James Hartman at the above address. For general information on DOE's NEPA review process, contact Carol M. Borgstrom, Director, Office of NEPA Policy and Compliance, GC-54, U.S. Department of Energy, 1000 Independence Avenue, SW., Washington, DC 20585-0119, telephone (202) 586-4600 or (800) 472-2756, facsimile (202) 586-7031. For information on the Forest Service role in this effort, please contact David Loomis, Regional Environmental Planner, Rocky Mountain Regional Office, U.S. Forest Service, 740 Simms St., Golden, CO 80401 (303) 275-5008.

SUPPLEMENTARY INFORMATION: Western is a Federal power marketing agency within the DOE that markets and delivers Federal wholesale electric power (principally hydroelectric power) to municipalities, rural electric cooperatives, public utilities and irrigation districts, Federal and State agencies, and Native American tribes in 15 western and central States. The proposal covers existing transmission lines located on National Forest System lands in Colorado, Utah, and Nebraska and operated and maintained by Western's Rocky Mountain Region. Western proposes to improve the way it manages vegetation on FS lands in part to ensure compliance with section 1211 of the Energy Policy Act of 2005 and the subsequent changes in industry standards for vegetation management to control the costs of vegetation management, to reduce the risk of wildfires caused by vegetation interacting with energized transmission lines, and to reduce the potential impact of wildfires on the transmission lines. Forest Service authorizations, issued under 36 CFR 251.54, for Western's use of National Forest System lands would need to be modified to accommodate this proposal.

Purpose and Need for Agency Action

Western must ensure that it can safely and reliably operate and maintain its existing electrical transmission facilities to deliver electrical power. Western must ensure access to its transmission facilities for maintenance and emergency response. Western must also ensure that the costs associated with maintaining the transmission system can be controlled in accordance with sound business principles. Western must meet mandatory vegetation management standards in accordance with section 1211 of the Energy Policy Act of 2005 and industry standards. The vegetation management standards are designed to ensure the safe and reliable operation of the transmission system.

To ensure that Western can safely, reliably, and cost-effectively operate, maintain, and access its transmission system and implement required vegetation management practices on lands managed by the FS, Western needs to participate with the FS to evaluate options to renew or modify Western's current authorizations.

Western's objectives for this proposal are to maintain its transmission lines, ROW and access roads to:

• Protect public and worker safety

• Ensure power system reliability

• Comply with current industry standards and mandatory reliability standards

• Achieve technical and economic efficiencies to minimize impacts on transmission line tariff costs and electrical power rates

• Reduce the risk of wildfires caused by vegetation growing into or falling onto transmission lines

• Reduce the risks to facilities from fires

• Control the spread of noxious weeds

• Ensure that Western's transmission facilities remain operational for the useful life of the facility

• Maintain flexibility to accommodate changes in transmission system operation and maintenance requirements

Proposed Action

Western proposes to improve the way it manages vegetation along its ROW on National Forest System lands in the states of Colorado, Utah, and Nebraska. Not all areas of Western's ROW would require the proposed changes to vegetation management. Vegetation management approaches would vary along the ROW depending on site conditions and identified risks to the transmission lines, and other factors. Over the life of Western's facilities, proposed vegetation management changes would be implemented in locations along its ROW where vegetation could interfere with Western's ability to reliably operate and maintain the facilities. In general, Western proposes to change its vegetation management practices in the following manner:

• Implement and then maintain vegetation conditions along the ROW that reduce the risk to the transmission lines from vegetation-caused interference with the maintenance and operation of the transmission line. This could include establishing relatively stable native vegetation that, at mature height, would not grow into conductors, fall onto conductors or structures, or contribute to high fuel loads.

• Change from a largely reactive approach of cutting danger trees with annual ROW re-entry cycles to a proactive approach that incorporates integrated vegetation management. The objectives would be to control vegetation that, at mature height, presents a risk to transmission line maintenance and operation, and allow for longer ROW re-entry intervals.

• Reduce as necessary and manage the amount of fuel-loading on the ROW to reduce the risk of transmission line-caused wildfires and to reduce the potential impacts of wildfires to transmission lines and structures.

Alternatives

Alternatives to Western's proposal include the no action alternative. In this alternative, Western would continue its maintenance according to past and current practices. Danger trees would be managed as they are now using a reactive approach with annual re-entry cycle to locate and cut danger trees. Other alternatives may be identified based on public and agency comments.

Floodplain or Wetland Involvement

Since the proposed Project may involve action in floodplains or wetlands, this NOI also serves as a notice of proposed floodplain or wetland action, in accordance with 10 CFR 1022.12 (a). The EIS will include a floodplain/wetland assessment and floodplain statement of findings following DOE regulations for compliance with floodplain and wetlands environmental review (10 CFR 1022).

Environmental Issues

The location of the proposal is on National Forest System lands in Colorado, Utah, and Nebraska. National Forests in Colorado include the Arapaho-Roosevelt, Grand Mesa-Uncompahgre-Gunnison, White River, Routt, San Juan, and Pike-San Isabel. The project also includes the Nebraska National Forest in Nebraska and the Ashley National Forest in Utah. Western maintains approximately 300 miles of ROW in these forests. The ROWs cross through a variety of vegetation communities at elevations ranging from approximately 6,000 to 11,000 feet. The widths of the transmission line ROW depend on the voltage of the line and typically range from 75 to 175 feet. The EIS will evaluate impacts on a variety of environmental resources that may occur along the approximately 4,000 total acres of ROW. The EIS will include design criteria and other actions to avoid or minimize impacts. The EIS will also present the results of compliance with other environmental regulations including the Endangered Species Act, National Historic Preservation Act, Clean Water Act, Clean Air Act and others.

Public Participation

Interested parties are invited to participate in the scoping process to identify important issues to be analyzed in depth, and to eliminate from detailed study issues that are not pertinent. The scoping process will involve all interested agencies (Federal, State, county, and local), Native American tribes, public interest groups, businesses, affected landowners, and individual members of the public.

Western and the FS will consult with affected tribes to evaluate and address the potential effects on cultural resources, traditional cultural properties, or other resources important to the tribes. These consultations will be conducted in accordance with Executive Order 13175, Consultation and Coordination with Indian Tribal Governments (65 FR 67429), the President's memorandum of April 29, 1994, Government-to-Government Relations with Native American Tribal Governments (59 FR 22961), DOE-specific guidance on tribal interactions, and applicable natural and cultural resources laws and regulations.

The public is encouraged to provide information and comments on issues it believes should be addressed in the EIS. Comments on the scope of the EIS will be addressed by Western and the Forest Service. Comments will be accepted at any time during the EIS process. Comments received outside of the scoping period may be addressed in the draft EIS if practicable, otherwise they will be addressed later in the process, such as in the final EIS.

Western has set up a Web site at http://www.wapa.gov/transmission/Western-FS-EIS.htm to facilitate the distribution of project information including meeting notices, project documents, schedules and other information. The public will be able to obtain documents for review from this Web site or request digital or hardcopies of documents for review.

Western anticipates that the EIS process will take about 15 months, and will include public scoping meetings; consultation and coordination with appropriate Federal, State, county, and local agencies and tribes; distribution of and public review and comment on the Draft EIS; a formal public hearing on the Draft EIS; distribution of a Final EIS; and publication of the Record of Decision in the Federal Register.

Responsible Officials

Western: Administrator; Forest Service: Rocky Mountain Regional Forester.

Dated: March 24, 2010.
Timothy J. Meeks,
Administrator.
Dated: March 24, 2010.
Randall Karstaedt,
Acting Deputy Regional Forester.

[FR Doc. 2010-7724 Filed 4-7-10; 8:45 am]

BILLING CODE 6450-01-P